FEDERAL COMMUNICATIONS COMMISSION

[OMB 3060-0466, OMB 3060-0748, OMB 3060-0975, OMB 3060-1042, OMB 3060-1070, OMB 3060-1184; FR ID 282141]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before April 3, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0466.

Title: Sections 74.783, 73.1201 and 74.1283, Station Identification.

Form Number: Not applicable.

Type of Review: Extension of a currently approved collection.

Respondents: Business or other for-profit entities; Not for-profit institutions; State, Local or Tribal Government.

Number of Respondents and Responses: 28,246 respondents; 28,246 responses.

Estimated Time per Response: 0.166-1 hour.

Frequency of Response: On occasion reporting requirement; Recordkeeping requirement; Third party disclosure requirement.

Obligation to Respond: Required to obtain or maintain benefits. The statutory authority for this collection of information is contained in 47 U.S.C. 151, 152, 154(i), 303, 307 and 308.

Total Annual Burden: 26,735 hours.

Total Annual Costs: None.

Needs and Uses: The information collection requirements for this collection are as following: 47 CFR 73.1201(a) requires television broadcast licensees to make broadcast station identification announcements at the beginning and ending of each time of operation, and hourly, as close to the hour as feasible, at a natural break in program offerings. Television and Class A television broadcast stations may make these announcements visually or aurally.

47 CFR 74.783(b) requires licensees of television translators whose station identification is made by the television station whose signals are being rebroadcast by the translator, must secure agreement with this television station licensee to keep in its file, and available to FCC personnel, the translator's call letters and location, giving the name, address and telephone number of the licensee or his service representative to be contacted in the event of malfunction of the translator. It shall be the responsibility of the translator licensee to furnish current information to the television station licensee for this purpose.

47 CFR 73.1201(b)(1) requires that the official station identification consist of the station's call letters immediately followed by the community or communities specified in its license as the station's location. The name of the licensee, the station's frequency, the station's channel number, as stated on the station's license, and/or the station's network affiliation may be inserted between the call letters and station location. Digital Television (DTV) stations, or DAB Stations, choosing to include the station's channel number in the station identification must use the station's major channel number and may distinguish multicast program streams. For example, a DTV station with major channel number 26 may use 26.1 to identify a High Definition Television (HDTV) program service and 26.2 to identify a Standard Definition Television (SDTV) program service. A radio station operating in DAB hybrid mode or extended hybrid mode shall identify its digital signal, including any free multicast audio programming streams, in a manner that appropriately alerts its audience to the fact that it is listening to a digital audio broadcast. No other insertion between the station's call letters and the community or communities specified in its license is permissible. A station may include in its official station identification the name of any additional community or communities, but the community to which the station is licensed must be named first.

Regulations at 47 CFR 74.791(c) permit low power TV permittees or licensees to request to be assigned four-letter call signs in lieu of the five-character alpha-numeric call signs. Regulations at 47 CFR 74.1283(c)(1) require a FM translator station licensee whose identification is made by the primary station must arrange for the primary station licensee to furnish the translator's call letters and location (name, address, and telephone number of the licensee or service representative) to the FCC. The licensee must keep this information in the primary station's files.

On April 17, 2023, the Commission released a Report and Order, Amendment of parts 73 and 74 of the Commission's Rules to Establish Rules for Digital Low Power Television and Television Translator Stations, FCC 23-25. With the advent of digital television operation, there were a number of duplicative rules for both analog and digital television operations. Sections 74.783(e) and 74.791(c) are such rules. Section 74.783(e) referred to analog operations whereas 74.791(c) referred to digital operations. Since all television operations are now required to be digital and the rule sections are duplicative, the analog referenced rule, 74.783(e) has been deleted and replaced with Section 74.791(c), See FCC 23-25 for the actions described herein.

OMB Control Number: 3060-0748.

Title: Section 64.104, 64.1509, 64.1510 Pay-Per-Call and Other Information Services.

Form Number: N/A.

Type of Review: Extension of a currently approved collection.

Respondents: Business or other for-profit entities.

Number of Respondents and Responses: 5,125 respondents; 5,175 responses.

Estimated Time per Response: 2 to 260 hours.

Frequency of Response: Annual and on occasion reporting and recordkeeping requirements; Third party disclosure requirement.

Obligation to Respond: Required to obtain or retain benefits. The statutory authority(s) for the information collection is found at 47 U.S.C. 228(c)(7)-(10); Public Law 192-556, 106 Stat. 4181 (1992), codified at 47 U.S.C. 228 (The Telephone Disclosure and Dispute Resolution Act of 1992).

Total Annual Burden: 47,750 hours.

Total Annual Cost: None.

Needs and Uses: Regulations at 47 CFR 64.1504 of the Commission's rules incorporate the requirements of sections 228(c)(7)-(10) of the Communications Act restricting the manner in which toll-free numbers may be used to charge telephone subscribers for information services. Common carriers may not charge a calling party for information conveyed on a toll-free number call, unless the calling party: (1) has executed a written agreement that specifies the material terms and conditions under which the information is provided, or (2) pays for the information by means of a prepaid account, credit, debit, charge, or calling card and the information service provider gives the calling party an introductory message disclosing the cost and other terms and conditions for the service. The disclosure requirements are intended to ensure that consumers know when charges will be levied for calls to toll-free numbers and are able to obtain information necessary to make informed choices about whether to purchase toll-free information services. Regulations at 47 CFR 64.1509 of the Commission rules incorporate the requirements of 47 U.S.C. (c)(2) and 228(d)(2)-(3) of the Communications Act. Common carriers that assign telephone numbers to pay-per-call services must disclose to all interested parties, upon request, a list of all assigned pay-per-call numbers. For each assigned number, carriers must also make available: (1) a description of the pay-per-call services; (2) the total cost per minute or other fees associated with the service; and (3) the service provider's name, business address, and telephone number. In addition, carriers handling pay-per-call services must establish a toll-free number that consumers may call to receive information about pay-per-call services. Finally, the Commission requires carriers to provide statements of pay-per-call rights and responsibilities to new telephone subscribers at the time service is established and, although not required by statute, to all subscribers annually.

Under 47 CFR 64.1510 of the Commission's rules, telephone bills containing charges for interstate pay-per-call and other information services must include information detailing consumers' rights and responsibilities with respect to these charges. Specifically, telephone bills carrying pay-per-call charges must include a consumer notification stating that: (1) the charges are for non-communication services; (2) local and long distance telephone services may not be disconnected for failure to pay per-call charges; (3) pay-per-call (900 number) blocking is available upon request; and (4) access to pay-per-call services may be involuntarily blocked for failure to pay per-call charges. In addition, each call billed must show the type of services, the amount of the charge, and the date, time, and duration of the call. Finally, the bill must display a toll-free number which subscribers may call to obtain information about pay-per-call services. Similar billing disclosure requirements apply to charges for information services either billed to subscribers on a collect basis or accessed by subscribers through a toll-free number. The billing disclosure requirements are intended to ensure that telephone subscribers billed for pay-per-call or other information services can understand the charges levied and are informed of their rights and responsibilities with respect to payment of such charges.

OMB Control Number: 3060-0975.

Title: Sections 68.105 and 1.4000, Promotion of Competitive Networks in Local Telecommunications Markets Multiple Tenant Environments (MTEs).

Form Number: Not applicable.

Type of Review: Extension of a currently approved collection.

Respondents: Business or other for-profit entities, not-for-profit institutions, and State, local, or Tribal governments.

Number of Respondents and Responses: 4,186 respondents; 207,089 responses.

Estimated Time per Response: 0.5 hour-10 hours.

Frequency of Response: On occasion reporting requirement and third-party disclosure requirement.

Obligation to Respond: Required to obtain or retain benefits. Statutory authority for this information collection is contained in 47 U.S.C. 151 and the Telecommunications Act of 1996, Public Law 104-104.

Total Annual Burden: 130,990 hours.

Total Annual Cost: No cost.

Needs and Uses: This information facilitates efficient interaction between premises owners and local exchange carriers (LECs) regarding the placement of the demarcation point, which marks the end of wiring under control of the LEC and the beginning of wiring under the control of the premises owner or subscriber. The demarcation point is a critical point of interconnection where competitive LECs can gain access to the inside wiring of the building to provide service to customers in the building. This collection also helps ensure that fixed wireless antennas covered by the OTARD rule comply with the Commission's limits on radiofrequency exposure and provides the Commission with information on the state of the market. In short, this collection helps foster competition in local telecommunications markets by ensuring that competing telecommunications providers can provide services to customers in multiple tenant environments.

OMB Control No.: 3060-1042.

Title: Request for Technical Support—Help Request Form.

Form No.: N/A—Electronic only.

Type of Review: Extension of currently approved collection.

Respondents: Individuals or household; business or other for-profit; not-for-profit institutions; and state, local or tribal government.

Number of Respondents and Responses: 36,300 respondents and 36,300 responses.

Estimated Time per Response: 0.14 hours.

Frequency of Response: On occasion reporting requirement and recordkeeping requirement.

Obligation to Respond: Required to obtain or retain benefits. There is no statutory authority for this information collection. The Commission developed this information collection on its own motion to assist users of the Universal Licensing System (ULS) or other FCC electronic systems.

Total Annual Burden: 5,082 hours.

Total Annual Cost: $609,840.

Needs and Uses: The FCC maintains internet software used by the public to apply for licenses, participate in auctions for spectrum, and maintain license information. In this mission, FCC has a `help desk' that answers questions related to these systems as well as resetting and/or issuing user passwords for access to these systems.

The form currently is available on the website https://esupport.fcc.gov/request.htm under OMB Control Number 3060-1042. This form will continue to substantially decrease public and staff burden since all the information needed to facilitate a support request will be submitted in a standard format but be available to a wider audience. This eliminates or at least minimizes the need to follow-up with the customers to obtain all the information necessary to respond to their request. This form also helps presort requests into previously defined categories to all staff to respond more quickly.

OMB Control Number: 3060-1070.

Title: Allocation and Service Rules for the 71-76 GHz, 81-86 GHz, and 92-95 GHz Bands.

Form Number: N/A.

Type of Review: Revision of a currently approved collection.

Respondents: Business or other for-profit entities; not-for-profit institutions; and State, local, or Tribal Government.

Number of Respondents: 1,177 respondents; 19,604 responses.

Estimated Time per Response: 5.25 hours to 8ours.

Frequency of Response: On occasion reporting requirement, recordkeeping requirement, and third-party disclosure requirement.

Obligation to Respond: Required to obtain or retain benefits. Statutory authority for this information collection is contained 47 U.S.C. 151, 154(i), 302a, 303(c), 303(f), and 303(r) of the Communications Act of 1934, as amended.

Total Annual Burden: 14,347 hours.

Total Annual Cost: $200,000.

Needs and Uses: The Commission is revising this information collection and would like to obtain the full three-year approval from OMB. The Commission adopted a new Report and Order, FCC 24-16, in WT Docket No. 20-133 entitled “Modernizing and Expanding Access to the 70/80/90 GHz Bands” (“Report and Order”). The Report and Order was subsequently released on January 26, 2024, and published in the Federal Register on April 29, 2024.

Relevant to Control No. 3060-1070, the Report and Order adopted the following Commission rules: section 101.63(b); section 101.1523(a) and (e); and section 101.1528(a)(11), (b)(10), and (d). There are program changes to the reporting, recordkeeping and/or third-party disclosure requirements and the Commission estimates an increase in nationwide licensees. The recordkeeping, reporting, and third party disclosure requirements will be used by the Commission to verify licensee compliance with the Commission rules and regulations, and to ensure that licensees continue to fulfill their statutory responsibilities in accordance with the Communications Act of 1934. The Commission's rules promote the private sector development and use of 71-76 GHz, 81-86 GHz, and 92-95 GHz bands (70/80/90 GHz bands). Such information has been used in the past and will continue to be used to minimize interference, verify that applicants are legally and technically qualified to hold license, and to determine compliance with Commission rules.

OMB Control Number: 3060-1184.

Title: Sections 1.946(d), 1.949, 27.10(d), 27.12, 27.13, 27.14 and 27.17, Service Rules for the Advanced Wireless Services H Block—Implementing Section 6401 of the Middle Class Tax Relief and Job Creation Act of 2012 Related to the 1915-1920 MHz and 1995-2000 MHz Bands—R&O, FCC 13-88.

Form Number: N/A.

Type of Review: Revision of a currently approved collection.

Respondents: Business or other for-profit entities.

Number of Respondents and Responses: 1 respondent; 176 responses.

Estimated Time per Response: 1 hour.

Frequency of Response: On occasion reporting requirement and at the end of the license term for incumbent licensees.

Obligation to Respond: Statutory authority for this collection are contained in sections 15 U.S.C. 79 et seq.; 47 U.S.C. 151, 154(i), 154(j), 155, 157, 225, 227, 303(r), 309, 310, 1404, and 145.

Total Annual Burden: 176 hours.

Total Annual Cost: No cost.

Needs and Uses: On June 27, 2013, the FCC adopted: Service Rules for the Advanced Wireless Services H Block—Implementing section 6401 of the Middle Class Tax Relief and Job Creation Act of 2012 Related to the 1915-1920 MHz and 1995-2000 MHz Bands, WT Docket 12-357, Report and Order, 28 FCC Rcd 9483 (2013) (H Block R&O). The H Block R&O adopted service rules for the H Block and makes available 10 MHz of paired spectrum for flexible use in accordance with the Middle Class Tax Relief and Job Creation Act of 2012. The H Block R&O contained new information collection requirements. Sections 1.949 and 27.13 are being added to this collection to clarify that the filing of the construction notifications and renewal applications involves the interaction of two regulations.

For the purpose of this collection, a winning bidder of H Block spectrum must comply with each of the following rule sections:

(a) Sections 1.946(d) and 27.14 require H Block licensees to file a construction notification and certify that they have met the applicable performance benchmarks.

(b) Sections 1.949 and 27.13 require H Block licensees to file renewal applications and certify that they continue to provide at least the level of service required by its final performance requirement through the end of any subsequent license term or include a detailed description of: (1) the level and quality of service provided by the applicant; (2) the date service commenced; (3) whether service was ever interrupted; (4) the duration of any interruption or outage; (5) the extent to which service is provided to rural areas; (6) the extent to which service is provided to qualifying Tribal lands; and (7) any other factors associated with the level of service to the public.

(c) Section 27.10(d) requires an H Block licensee to notify the Commission within 30 days if it changes, or adds to, the carrier status on its license.

(d) Section 27.12 requires H Block licensees to comply with certain eligibility reporting requirements.

(e) Section 27.17 requires H Block licensees to notify the Commission within ten days if they permanently discontinue service by filing FCC Form 601 or 605 and requesting license cancellation.

Federal Communications Commission.
Marlene Dortch,
Secretary, Office of the Secretary.

[FR Doc. 2025-03451 Filed 3-3-25; 8:45 am]

BILLING CODE 6712-01-P